DEPARTMENT OF HOMELAND SECURITY

Federal Emergency Management Agency

[Docket ID FEMA-2014-0028]

Assistance to Firefighters Grant Program

AGENCY: Federal Emergency Management Agency, DHS.

ACTION: Notice of availability of grant application and application deadline.

SUMMARY: This Notice describes the grant application process and the criteria for awarding grants in the fiscal year (FY) 2014 Assistance to Firefighters Grant Program (AFG) Program and announces the grant application deadline. It explains the differences, if any, between these guidelines and those recommended by representatives of the Nation's fire service leadership during the annual Criteria Development meeting, which was held January 8-9, 2014. The application period for the FY 2014 AFG Program year will be held November 3, 2014 through December 5, 2014, and will be announced on the AFG Web site (www.fema.gov/firegrants), www.grants.gov, and U.S. Fire Administration Web site (www.usfa.fema.gov).

The AFG Program makes grants directly to fire departments, nonaffiliated emergency medical services (EMS) organizations, and state fire training academies for the purpose of enhancing the abilities of first responders to protect the health and safety of the public as well as that of first-responder personnel facing fire and fire-related hazards. It is anticipated that approximately 10,000 to 15,000 applications will be submitted electronically, using the online application submission form and process available at https://portal.fema.gov. Before the application period, the “FY 2014 AFG Funding Opportunity Announcement” will be published on the AFG Web site (www.fema.gov/firegrants). Additional information to assist applicants will be provided on the AFG Web site, including a list of Frequently Asked Questions (FAQ), a “Get Ready Guide,” and a “Quick Reference Guide.” In addition, the authorizing statute requires that a minimum of 10 percent of available funds be expended for fire prevention and safety grants to be made directly to local fire departments and to local, regional, State, or national entities recognized for their expertise in the fields of fire prevention and firefighter safety research and development.

Authority: 15 U.S.C. 2229.

DATES: Grant applications for the Assistance to Firefighters Grants will be accepted electronically at https://portal.fema.gov, from November 3, 2014, beginning at 8 a.m. Eastern Time, and will conclude on December 5, 2014, at 5 p.m. Eastern Time.

ADDRESSES: Assistance to Firefighters Grants Branch, DHS/FEMA, 800 K Street NW., MS 3620, Washington, DC 20472-3620.

FOR FURTHER INFORMATION CONTACT: Catherine Patterson, Branch Chief, Assistance to Firefighters Grant Branch, 1-866-274-0960.

SUPPLEMENTARY INFORMATION: The purpose of the AFG Program is to provide grants directly to fire departments, nonaffiliated emergency medical services (EMS) organizations, and State Fire Training Academies (SFTAs) to enhance their ability to protect the health and safety of the public, as well as that of first-responder personnel, with respect to fire and fire-related hazards. The authorizing statute requires that each year DHS publish in the Federal Register the guidelines that describe the application process and the criteria for grant awards.

Specific information about the submission of grant applications can be found in the “FY 2014 Assistance to Firefighters Grant (AFG) Funding Opportunity Announcement,” which is available for download at www.fema.gov/firegrants under Docket ID FEMA-2014-0028.

Paper applications will not be accepted due to the inherent delays with processing them and because they lack the applicant “help” features that are built into the electronic application.

Appropriations

Congress appropriated $340,000,000 for the FY 2014 AFG pursuant to the Department of Homeland Security Appropriations Act, 2014, Public Law 113-6. From this amount, $304,503,764 will be made available for AFG awards. Funds appropriated for the FY 2014 AFG will be available for obligation and award until September 30, 2015.

From the approximately 10,000 to 15,000 applications that will be submitted to request assistance, FEMA anticipates that it will be able to award approximately 3,000 grants with the grant funding available.

Congress directed the Department of Homeland Security (DHS) to administer the appropriations with the following requirements:

• Career (fire department): Not less than 25 percent of available grant funds.

• Volunteer (fire department): Not less than 25 percent of available grant funds.

• Combination (fire department) and departments using paid-on-call firefighting personnel—not less than 25 percent of available grant funds.

• Open Competition: Career, volunteer, and combination fire departments and fire departments using paid-on-call firefighting personnel—not less than 10 percent of available grant funds awarded.

• Emergency Medical Services Providers: Fire departments and nonaffiliated EMS organizations; not less than 3.5 percent of available grants funds awarded, with nonaffiliated EMS providers receiving no more than 2 percent of the total available grant funds.

• State Fire Training Academies (SFTAs): No more than 3 percent of available grant funds shall be collectively awarded to state fire training academy applicants, with a maximum of $500,000 to be awarded per applicant.

• Vehicles: Not more than 25 percent of available grant funds may be used for the purchase of vehicles; 10 percent of the total vehicle funds will be dedicated to fund ambulances. The allocation of funding will be distributed as equally as possible among urban, suburban, and rural community applicants. The remaining Vehicle Acquisition funds will be awarded competitively without regard to community classification.

• Micro Grants: This is a voluntary funding limitation choice made by the applicant for requests submitted for Operations and Safety Grant Component Program; it is not an additional funding opportunity. Micro Grants are awards that have a federal participation (share) that does not exceed $25,000. Only fire departments and nonaffiliated EMS organizations are eligible to choose Micro Grants, and the only eligible Micro Grants activities are Training, Equipment, PPE, and Wellness and Fitness. Applicants that select Micro Grants as a funding opportunity may receive additional consideration for award. If an applicant selects Micro Grants in their application, they will be limited in the total amount of funding their organization can be awarded; if they are requesting funding in excess of $25,000 federal participation, they should not select Micro Grants.

Background of the AFG Program

DHS awards the grants on a competitive basis to the applicants that best address the AFG Program's priorities and provide the most compelling justification. Applications that best address the Program's priorities will be reviewed by a panel composed of fire service personnel.

Award Criteria

All applications for grants will be prepared and submitted through the AFG e-Grant application portal (https://portal.fema.gov). DHS again will have a separate application period devoted solely to the Fire Prevention and Safety (FP&S) Grants, which is projected to occur not earlier than February 2015.

DHS awards the grants on a competitive basis to the applicants that best address the AFG Program's priorities and provide the most compelling justification. Applications that best address the Program's priorities will be reviewed by a panel composed of fire service personnel. The panels will review the applications and score them using the following criteria areas:

• Proposed project and the project budget

• Cost benefits

• Financial need

• The extent to which the grant would enhance daily operations

• Evaluation by the Peer Reviewers relative to the critical infrastructure the applicant protects

• For joint/regional host applications only, a list of all the participating eligible organizations and ineligible benefitting organizations

• Critical infrastructure systems or key resources that, if attacked, would result in catastrophic loss of life or catastrophic economic loss. Critical infrastructure includes the following:

○ Public water

○ Power systems

○ Major business centers

○ Chemical facilities

○ Nuclear power plants

○ Major rail and highway bridges

○ Petroleum and/or natural gas transmission pipelines

○ Storage facilities (e.g., chemical storage)

○ Telecommunications facilities

○ Facilities that support large public gatherings, such as sporting events or concerts

Eligible Applicants

The following organizations are eligible to apply for and receive an AFG award of direct financial assistance:

• Fire departments and nonaffiliated EMS organizations operating in any of the 50 states plus the District of Columbia, the Commonwealth of the Northern Mariana Islands, the U.S. Virgin Islands, Guam, American Samoa, the Commonwealth of Puerto Rico, or any federally recognized Indian tribe or authorized tribal organization, or an Alaskan native village, Alaska Regional Native Corporation, or the Alaska Village Initiatives. Nonaffiliated EMS organizations are defined by 15 U.S.C. 2229(a)(7).

• Any State Fire Training Academy operating in any of the 50 states plus the District of Columbia, the Commonwealth of the Northern Mariana Islands, the U.S. Virgin Islands, Guam, American Samoa, and the Commonwealth of Puerto Rico. For the purposes of the Assistance to Firefighters Grant program, a State Fire Training Academy (SFTA) is defined as the primary State Fire Training Academy, agency, or institution for each state. It provides entity-wide delivery of fire training (and emergency medical services training if applicable) as specified by legislative authorization, by general statutory authorization or charter, or is ad-hoc in nature with the general acceptance of the fire service. The State Fire Training Academy shall receive state funding for its program in total or part. It shall also have the delivery of fire training programs as the primary function of the agency or institution as demonstrated by the employment of instructional staff and the conducting of “direct contact” programs in training and education for fire service personnel of the entire state. A listing of eligible State Fire Training Academy organizations and institutions can be found at the U.S. Fire Administration's Web site (http://www.usfa.fema.gov/pocs/).

Ineligibility

• FEMA considers two or more separate fire departments or nonaffiliated EMS organizations sharing facilities as being one organization. If two or more organizations share facilities, and each organization submits an application in the same program area, FEMA may deem all of those program area applications to be ineligible to avoid any duplication of benefits.

• Fire-based EMS organizations are not eligible to apply as nonaffiliated EMS organizations. Fire-based EMS training and equipment must be requested by a fire department under the AFG component program Operations and Safety.

Statutory Limits to Funding

Congress has enacted statutory limits to the amount of funding that a grantee may receive from the AFG Program in any single fiscal year (15 U.S.C. 2229(c)(2)) based on the population served. Awards will be limited based on the size of the population protected by the applicant, as indicated below. Notwithstanding the annual limits stated below, the FEMA Administrator may not award a grant in an amount that exceeds one percent of the available grants funds in such fiscal year, except where it is determined that such recipient has an extraordinary need for a grant in an amount that exceeds the one percent aggregate limit.

• In the case of a recipient that serves a jurisdiction with 100,000 people or fewer, the amount of available grant funds awarded to such recipient shall not exceed $1 million in any fiscal year.

• In the case of a recipient that serves a jurisdiction with more than 100,000 people but not more than 500,000 people, the amount of available grant funds awarded to such recipient shall not exceed $2 million in any fiscal year.

• In the case of a recipient that serves a jurisdiction with more than 500,000 but not more than 1 million people, the amount of available grant funds awarded to such recipient shall not exceed $3 million in any fiscal year.

• In the case of a recipient that serves a jurisdiction with more than 1 million people but not more than 2,500,000 people, the amount of available grant funds awarded to such recipient shall not exceed $6 million for any fiscal year, but is subject to the one percent aggregate cap of $3,400,000 for FY 2014.

• In the case of a recipient that serves a jurisdiction with more than 2,500,000 people, the amount of available grant funds awarded to such recipient shall not exceed $9 million in any fiscal year, but is subject to the one percent aggregate cap of $3,400,000 for FY 2014.

• FEMA may not waive the caps on the maximum amount of available grant funds awarded based upon population.

The cumulative total of the federal share of awards in Operations and Safety and Vehicle Acquisition will be considered when assessing award amounts and any limitations thereto. Applicants may request funding up to the statutory limit on each of their applications.

For example, an applicant that serves a jurisdiction with more than 100,000 people but not more than 500,000 people may request up to $2 million on their Operations and Safety Application and up to $2 million on their Vehicle Acquisition Request. However, should both grants be awarded, the applicant would have to choose which award to accept if the cumulative value of both applications exceeds the statutory limits.

Applications for Joint/Regional Projects will not be included in the host organization's funding limitations detailed above. However, Joint/Regional applicants will be subject to their own limitation based on the total population the joint/regional project will serve. For example, a Joint/Regional Project serving a cumulative population with more than 100,000 people but not more than 500,000 people will be limited to $2 million.

Cost Sharing and Maintenance of Effort

Grantees must share in the costs of the projects funded under this grant program as required by 15 U.S.C. 2229(k)(1) and in accordance with applicable Federal regulations governing grants in effect at the time a grant is awarded to a grantee, but they are not required to have the cost-share at the time of application nor at the time of award. However, before a grant is awarded, FEMA will contact potential awardees to determine whether the grantee has the funding in hand or if the grantee has a viable plan to obtain the funding necessary to fulfill the cost-sharing requirement.

In general, an eligible applicant seeking a grant shall agree to make available non-Federal funds equal to not less than 15 percent of the grant awarded. However, the cost share will vary as follows based on the size of the population served by the organization:

• Applicants serving areas with populations above 20,000 but not more than 1 million shall agree to make available non-Federal funds equal to not less than 10 percent of the total project cost.

• Applicants that serve populations of 20,000 or less must match the Federal grant funds with an amount of non-Federal funds equal to 5 percent of the total project cost.

The cost share of State fire training academies and joint/regional projects will be based on the entire State or region, not the population of the host organization.

On a case by case basis, the AFG may allow grantees that already own assets (equipment or vehicles) to use the trade-in allowance/credit value of those assets as “cash” for the purpose of meeting the cost-share obligation of their AFG award. In-kind cost-share matches are not allowed.

Grantees under this grant program must also agree to a maintenance of effort requirement as required by 15 U.S.C. 2229(k)(3) (referred to as a “maintenance of expenditure” requirement in that statute). A grantee shall agree to maintain during the term of the grant the applicant's aggregate expenditures relating to the activities allowable under the Funding Opportunity Announcement at not less than 80 percent (80%) of the average amount of such expenditures in the two (2) fiscal years preceding the fiscal year in which the grant amounts are received.

In cases of demonstrated economic hardship, and on the application of the grantee, the Administrator of FEMA may waive or reduce a grantee's cost share requirement or maintenance of expenditure requirement. As required by statute, the Administrator of FEMA has established guidelines for determining what constitutes economic hardship and published these guidelines at FEMA's Web site (www.fema.gov/grants).

Prior to the start of the FY 2014 AFG application period, DHS will conduct applicant workshops and/or Internet webinars to inform potential applicants about the AFG Program. In addition, DHS will provide applicants with online information at the AFG Web site (www.fema.gov/firegrants) to help them prepare quality grant applications. The AFG also will staff a Help Desk throughout the application period to assist applicants with navigation through the automated application as well as assistance with any questions they have. Applicants can reach the AFG Help Desk through a toll-free telephone number (1-866-274-0960) or electronic mail (firegrants@dhs.gov).

Application Process

Organizations may submit one application per application period in each of the three AFG Program areas, e.g., one application for Operations and Safety, one for Vehicle Acquisition, and/or a separate application to be a Joint/Regional Project host. If an organization submits more than one application for any single AFG Program area, e.g., two applications for Operations and Safety, two for Vehicles, etc.; either intentionally or unintentionally, FEMA will deem all applications submitted by that organization for the Program to be ineligible for funding.

Applicants will be advised to access the application electronically at https://portal.fema.gov. The application also will be accessible from the U.S. Fire Administration's Web site (http://www.usfa.fema.gov) and the grants.gov Web site (http://www.grants.gov). New applicants will be required to register and establish a username and password for secure access to their application. Applicants that applied to any previous AFG funding opportunities will be required to use their previously established usernames and passwords.

In completing the application, applicants will be asked to provide relevant information on their organization's characteristics, call volume, and existing capabilities. Applicants will be asked to answer questions about their grant request that reflect the AFG funding priorities, which are described below. In addition, each applicant will have to complete four separate narratives for each project or grant activity requested. These narratives will address statutory competitive factors: Project description and budget, cost benefit, financial need, extent to which the grant will benefit the organization's daily operations, and additional information. The electronic application process will permit the applicant to enter and save the application data. The system does not permit the submission of incomplete applications. Except for the narrative textboxes, the application will use a “point-and-click” selection process or require the entry of data (e.g., name and address, call volume numbers, etc.). Applicants will be encouraged to read the “AFG Funding Opportunity Announcement” for more details.

National Fire Protection Association (NFPA) Standards

Courtesy of the NFPA (and at no cost during the AFG application period), relevant standards that should be referenced in your applications may be viewed at http://www.nfpa.org/codes-and-standards/free-access.

Criteria Development Process

Each year, DHS convenes a panel of fire service professionals, or subject matter experts (SMEs) to develop the funding priorities and other implementation criteria for AFG. The Criteria Development Panel is comprised of representatives from nine major fire service organizations, who are charged with making recommendations to FEMA regarding the creation of new funding priorities and the modification of existing funding priorities as well as developing criteria for awarding grants. The nine major fire service organizations represented on the panel are:

• Congressional Fire Services Institute (CFSI)

• International Association of Arson Investigators (IAAI)

• International Association of Fire Chiefs (IAFC)

• International Association of Fire Fighters (IAFF)

• International Society of Fire Service Instructors (ISFSI)

• National Association of State Fire Marshals (NASFM)

• National Fire Protection Association (NFPA)

• National Volunteer Fire Council (NVFC)

• North American Fire Training Directors (NAFTD)

The FY 2014 criteria development panel meeting occurred January 8-9, 2014. The content of the “FY 2014 AFG Funding Opportunity Announcement” reflects the implementation of the Criteria Development Panel's recommendations with respect to the priorities, direction, and criteria for awards. All of the funding priorities for the FY 2014 AFG are designed to address the following:

• Protecting the public

• First responder safety

• Enhancing national capabilities

• Risk

• Interoperability

Changes for FY 2014

• FY 2014 AFG Funding Opportunity Announcement.

Operations and Safety Program

(1) Requests for Ballistic Protective Equipment (BPE) are now eligible as a new mission. A set of BPE will be comprised of one vest, one helmet, one triage bag, and one pair of goggles. Fire and EMS personnel should be properly trained and qualified in the use of the ballistic protection equipment and active shooter/mass casualty incident tactics and procedures. Interagency training and exercises are highly encouraged and should be fully explained as part of the applicant's narrative, if applicable.

(2) In FY 2013, the Assistance to Firefighters Grant Program introduced as an option within the AFG application of requesting a micro grant, which is an AFG award for which the federal share does not exceed $25,000. Only fire departments and nonaffiliated EMS organizations are eligible to choose Micro Grants, and the only activities that are eligible are Training, Equipment, PPE, and Wellness and Fitness. Micro Grants are not an additional funding opportunity, but Micro Grant applicants may receive additional consideration for an award. Micro Grant activities will be limited to those activities identified within the FOA as “Priority 1” or “High Priority” only. Overmatching of local funds by the applicant will not be permitted for Micro Grant applications.

(3) All simulators, as well as mobile or fixed fire/evolution props, (e.g. burn trailers, forcible entry, rescue/smoke maze) and Tow Vehicles have been moved from the Training activity to the Equipment Activity.

(4) Mobile computers, to include tablets (for use on scene/in the field) and mobile repeaters shall have the highest funding priority. Fixed repeaters and “backup” or secondary, communications systems will not be eligible in FY 2014.

(5) Mechanical Cardiopulmonary resuscitation (CPR) Compression Devices are eligible and will be a high funding priority.

Vehicle Acquisition Program

(1) Only new custom, stock, or demonstration vehicles are eligible for reimbursement under the AFG Vehicle Acquisition program. Refurbishment of vehicles is not eligible in FY2014.

Regional Grant Program

(1) Two or more eligible entities may submit an application under the name of a single participating organization (the “host”) to fund a regional program or initiative (acquisition activities are limited to shared Training, Equipment, PPE, and Vehicle Acquisition).

(2) A Regional Applicant (the host organization) is not prevented from also submitting applications on behalf of their own organization for any or all remaining AFG Component Programs (Vehicle Acquisition and/or Operations and Safety); however, duplicative acquisition requests for the same activities, submitted both as a singular applicant and Regional applicant, are not allowed.

System for Award Management (SAM)

In 2012, SAM.gov replaced the Central Contractor Registry (CCR). Per 2 CFR 25.200, all grant applicants and awardees are required to register in SAM.gov, which is available free of charge. They must maintain validated information in SAM that is consistent with the data provided in their AFG grant application and in the DUNS database. AFG will not accept any application, process any awards, or consider any payment or amendment requests, or consider any amendment until the applicant or grantee has complied with the requirements to provide a valid DUNS number and an active SAM registration with current information. The banking information, employer identification number (EIN), organization/entity name, address, and DUNS number provided in the application must match the information that provided in SAM.gov.

Revised Environmental and Historical Review Screening Form

FEMA's Environmental and Historic Preservation (EHP) Screening Form was revised and made available for download from the AFG application portal. AFG-funded projects that involve the installation of equipment (including but not limited to antennas, sprinklers, alarm systems, generators, vehicle exhaust systems, air improvement systems, permanent mounted signs, or renovations to facilities) are subject to FEMA's EHP screening process. Additional details are included in the “AFG Funding Opportunity Announcement”.

National Fire Incident Reporting System (NFIRS)

Although NFIRS reporting is strongly encouraged, NFIRS reporting is not a requirement to apply for or be awarded a grant within any AFG component program. However, any fire-based organization(s) that receives an AFG award must begin reporting to NFIRS prior to the beginning of their period of performance. Any grantee that stops reporting to NFIRS during their grant's period of performance is subject to having their award(s) modified or withdrawn.

Changes to Criteria Development Panel Recommendations

DHS must explain any differences between the published guidelines and the recommendations made by the criteria development panel and publish this information in the Federal Register prior to making any grants under the Program. For FY 2014, DHS accepted and is implementing all of the Criteria Development Panel's recommendations.

Application Review Process and Considerations

The authorizing statute requires that each year DHS publish in the Federal Register a description of the grant application process and the criteria for grant awards. This information is provided below.

DHS will review and evaluate all AFG applications submitted using the funding priorities and evaluation criteria described in this document, which are based on recommendations from the AFG Criteria Development Panel. FEMA will rank all submitted applications based on how well they match the funding priorities for the type of community served. Answers to the application's activity-specific questions provide information used to determine each application's ranking relative to the stated priorities.

Preliminary Review Process

DHS will evaluate all applications received first through an automated preliminary review process to determine which projects best address the AFG Program's announced funding priorities. The automated preliminary review will evaluate and score the applicants' answers to the activity-specific questions in terms of the funding priorities and the evaluation criteria described in this document.

The projects that best meet the AFG Program priorities as determined by the preliminary review will be deemed to be in the “competitive range” and will be forwarded for the second level of application review, which is the peer review process. Once the competitive range is established, DHS will review the list of applicants that were not included in the competitive range to determine if any are responsible for protecting DHS-specified critical infrastructure or key resources.

Peer Review Process

All projects that are deemed to be in the competitive range after the preliminary review process will be subjected to a second level of review by a technical evaluation panels (TEP) of peer reviewers. The TEPS are made up of individuals from the fire service, including, but not limited to, firefighters, fire marshals, and fire training instructors.

A panel of at least three peer reviewers will evaluate each project in the competitive range using the project narratives, along with answers to the general questions and the activity-specific questions. Panelists will provide a subjective but qualitative judgment on the merits of each request. They will review and score projects based on the following evaluation criteria:

• The proposed project description and budget

• Financial need

• Cost benefits

• The extent to which the grant would enhance daily operations

• How the grant will positively impact the regional ability to protect life and property

• For joint/regional host applications, the list of all the participating eligible and ineligible benefitting organizations

• Evaluation by the peer reviewers relative to the critical infrastructure the applicant protects within its first-due area of response

• Critical infrastructure includes systems or key resources that, if attacked, would result in catastrophic loss of life or catastrophic economic loss. Examples include the following:

○ Public water

○ Power systems

○ Major business centers

○ Chemical facilities

○ Nuclear power plants

○ Major rail and highway bridges

○ Petroleum and/or natural gas transmission pipelines

○ Storage facilities (such as chemicals)

○ Telecommunications facilities

○ Facilities that support large public gatherings, such as sporting events or concerts

• Additional information provided by the applicant

Each project will be judged on its own merits and not compared to other projects. As part of the cost-benefit review, the panelists will consider all expenses budgeted, including the individual costs of the items requested as well as the extraneous costs, such as warranties or maintenance costs, administrative costs, and/or indirect costs. Panelists may object to costs that are requested but not fully explained in the application.

The panelists will evaluate and score each project individually and then discuss the merits and shortcomings of each application in an effort to reconcile any major discrepancies. However, a consensus among reviewers on the scores is not required. The project's total peer review score will be an average of the individual peer reviewers' scores. The projects receiving the highest scores during the peer review process will be deemed in the fundable range.

The total peer review score will be combined with the score earned from the preliminary review, with each score representing 50 percent of the total project score. Projects will be ranked according to the total project scores with DHS considering the highest-scoring projects for awards.

Technical Review Process

Projects receiving the highest scores then will undergo a technical review by a subject matter specialist to assess the technical feasibility of the project and a programmatic review to assess eligibility and other factors.

DHS generally makes funding decisions using rank order resulting from the panel evaluation. However, DHS may deviate from rank order and make funding decisions based on the type of department (career, combination, or volunteer) and/or the size and character of the community the applicant serves (urban, suburban, or rural) to the extent it is required to satisfy statutory provisions.

After the completion of the technical reviews, DHS will select a sufficient number of awardees from this application period to obligate all of the available grant funding. It will evaluate and act on applications within 90 days following the close of the application period. Award announcements will be made on a rolling basis until all available grant funds have been committed. Awards will not be made in any specified order, i.e., awards will not be made by State, program, etc. DHS will notify unsuccessful applicants as soon as it is feasible.

State Strategy and Communications Technical Review

Each state will provide a SMS to the AFG Program Office to conduct a Technical Review of Peer reviewed applications from the state's perspective. This state review will focus on requests for CBRNE requested equipment and training. This state review will focus on requests for communications systems equipment and related training that should conform to the state's Statewide Communication Interoperability Plan (SCIP).

Funding Priorities

The funding priorities described in this Notice have been recommended by a panel of representatives from the Nation's fire service leadership and have been accepted by DHS for the purposes of implementing the AFG. These rating criteria provide an understanding of the AFG Program's priorities and the expected cost-effectiveness of any proposed project(s). The activities listed below are in no particular order of priority.

(1) Operations and Safety Funding Priorities

(i) Training Activities

• Priorities for Fire Departments and Joint/Regional Hosts. Due to inherent differences among urban, suburban, and rural firefighting needs, AFG has different priorities for Training for fire departments and joint/regional applicants that serve different types of communities, e.g., urban, suburban, or rural. These are described below and in the “FY 2014 AFG Funding Opportunity Announcement.”

Additional Considerations. Factors such as whether multiple departments will be trained, instructor-led vs. media-led training, and the number of firefighters to be trained. Large departments with a high number of active firefighters also will receive additional consideration.

• Priorities for Nonaffiliated EMS Organizations. Since training is a prerequisite to the effective use of EMS equipment, FEMA has determined that it is more cost-effective to enhance or expand an existing EMS organization by providing training or equipment than it is to create a new service. Therefore, communities attempting to initiate EMS services will receive the lowest competitive rating.

AFG provides training grants to meet the educational and performance requirements of EMS personnel. Training should align with the U.S. National Highway Traffic Safety Administration (NHTSA), which designs and specifies a National Standard Curriculum for EMT training and the National Registry of Emergency Medical Technicians (NREMT), a private, central certifying entity whose primary purpose is to maintain a national standard (NREMT also provides certification information for paramedics who relocate to another state).

Higher priorities for training are shown below. They are based on the time and cost of upgrading a nonaffiliated EMS organization's response level.

(1) Organizations seeking to elevate the response level from EMT Advanced (EMT-I) to Paramedic (EMT-P);

(2) Organizations seeking to elevate the response level from EMT (EMT-B) to EMT Advanced (EMT-I); and

(3) Organizations seeking to train a high percentage of the active EMR's will receive additional consideration when applying under the Training Activity.

Lower training priorities due to the time and cost of upgrading an organization's response level are

(1) Organizations seeking to upgrade from Emergency Medical Responder (First Responder) to EMT (EMT-B); and

(2) Organizations seeking to upgrade from EMT (EMT-B) to Paramedic (EMT-P).

(3) The lowest priority for EMS training is to fund Emergency Medical Responder (First Responders).

(4) Organizations seeking training in rescue or Hazmat operations will receive lower consideration than organizations seeking training for medical services.

(ii.) Equipment Acquisition

• Fire Departments, Joint/Regional Hosts, SFTAs, and Nonaffiliated EMS Organizations. Grants are available for equipment to enhance the safety and effectiveness of firefighting, rescue, and fire-based and nonaffiliated EMS emergency medical functions. Equipment requested must meet all mandatory requirements, as well as any voluntary consensus standards or national and/or state or DHS-Adopted Standards. The equipment requested should improve the health and safety of firefighters and protect the public.

Priority Equipment Types

(1) Priority 1—Basic, communications, EMS/rescue. The only eligible AFG acquisition activity for interoperable communications equipment is the purchase of P25-compliant equipment. Grantees purchasing P25 equipment must obtain documented evidence from the manufacturer that the equipment has been tested and passed the entire applicable, published, normative P25 Compliance assessment test procedures for performance, conformance, and Equipment requested, particularly decontamination and interoperability.

(2) Priority 2—Hazmat, Specialized. Hazmat equipment will only be funded to the current level of an organization's operational capabilities.

(3) Priority 3—Investigations, CBRNE.

Additional Considerations for Equipment: Fire Departments, Joint/Regional Hosts, and SFTAs. Additional consideration may be given to equipment requests based on the following factors:

• Equipment that has a direct effect on firefighters' health and safety.

• Age of equipment that will be considered for replacement has changed from 10 to 15 years.

• Equipment that benefits other jurisdictions.

• Equipment that brings the department into compliance with a national recommended standard, (e.g., NFPA) or statutory compliance (e.g., Occupational Safety & Health Administration (OSHA)) will receive the highest additional consideration.

• Funding Priorities for Nonaffiliated EMS Organizations. Nonaffiliated EMS organizations are eligible for Equipment Activities that are not specific or unique to structural/proximity firefighting, such as but not limited to Training, Equipment, Personal Protective Equipment [PPE], Wellness and Fitness, and Modification to Facilities they deem necessary to complete their mission.

• All of the factors in the table below are considerations in prescoring and panelist review.

Additional Considerations for Equipment—Nonaffiliated EMS. All of the following are considerations in prescoring and panelist review of equipment requests from nonaffiliated EMS organizations.

(iii.) Personal Protective Equipment (PPE) Acquisition

AFG Funds are primarily used to acquire OSHA-required and NFPA-compliant PPE for firefighting and EMS personnel of fire departments, joint/regional hosts, nonaffiliated EMS organizations, and State fire training academies. Equipment requested should have the goal of increasing firefighter safety. When requesting to replace old or obsolete equipment, applicants will be asked to provide the age of the equipment being replaced. In order for SCBA/PPE to be considered obsolete, it must be a minimum of two NFPA cycles or 10 years of age or older.

Information on the relevant NFPA standards can be obtained from the organization's Web site at http://www.nfpa.org/codes-and-standards/free-access. If requesting training for any items in this section, please list it in the “Other” section under Additional Funding for each item for which training is needed.

• Funding Priorities for Fire Departments, Joint/Regional Hosts, and SFTAs. The highest priorities for funding will be requests from departments to buy new PPE for the first time, to replace or update obsolete PPE to the current standard, and to replace torn, tattered, or damaged PPE. (Obsolete is defined as any PPE that is 10 years or older and is outdated by two NFPA cycles.) The medium priority for funding will be requests to replace contaminated PPE or to address a new risk. A low priority for funding will be requests to replace new or used PPE, replace worn but usable PPE that is not compliant to the current edition of the NFPA standard, to meet a new mission, or to increase current inventory. The table below shows the priorities for PPE requests that will be considered during prescoring and peer panelist reviews.

• Funding Priorities for Nonaffiliated EMS Organizations. Nonaffiliated EMS organizations are eligible for PPE activities that are not specific or unique to structural/proximity firefighting, such, as but not limited to, “NFPA1999: Standard on Protective Clothing for Emergency Medical Operations,” or “NFPA 1981: Standard on Open-Circuit Self-Contained Breathing Apparatus (SCBA) for Emergency Services.”

• Self-contained Breathing Apparatus (SCBA) Priorities. Awards for all SCBAs will be based on number of seated riding positions in the department's or organization's vehicle fleet and the age of existing SCBAs, limited to one spare cylinder (unless justified otherwise in the Request Details narrative for the PPE activity). New SCBAs must have automatic-on or integrated Personal Alert Safety System (PASS) devices and be CBRNE-compliant to the current edition of the NFPA 1981 standard. Applicants will be required to provide the age of the PPE being replaced. All requests must be justified in the Request Details narrative for the PPE activity.

Additional Considerations for PPE Requests: Fire Departments, Joint/Regional Hosts/SFTAs

• Obsolete is defined as any SCBA/PPE that is 10 years or older or two NFPA cycles.

• Applicants with the oldest PPE and/or trying to bring the department into 100 percent NFPA compliance, or the number of firefighters who will have compliant gear.

Additional Considerations for PPE Requests: Nonaffiliated EMS Organizations

• Percent of firefighters/EMS personnel served.

• Age of equipment.

• Obsolete equipment—defined as any SCBA/PPE that is 10 years or older, and two NFPA cycles.

(iv.) Wellness and Fitness Activities

Only fire departments and nonaffiliated EMS organizations are eligible to apply for grants for Wellness and Fitness Activities. Wellness and Fitness Activities are intended to strengthen first responders so their mental, physical, and emotional capabilities are resilient to withstand the demands of emergency services response. To be eligible for FY 2014 AFG funding in this activity, fire departments and nonaffiliated EMS organizations must offer, or plan to offer, all four of the following:

(1) Periodic health screenings

(2) Entry physical examinations

(3) Immunizations

(4) Behavioral health programs

• Funding Priorities. Applicants must have all four Priority 1 Activities already in place (or request funding for any missing Priority 1 Activities), or they will be unable to request funding for any Priority 2 Activities.

Priority 1: Below are the four activities required to offer a complete Wellness and Fitness Program:

(1) Initial medical exams

(2) Job-related immunization

(3) Annual medical and fitness evaluation

(4) Behavioral health

Priority 2: You may only apply for Priority 2 items if you offer or are requesting a combination of the four activities required under Priority 1. Departments that have some of the Priority 1 programs in place must apply for funds to implement the missing Priority 1 programs before applying for funds for any additional program or equipment. In addition, funded medical exams must meet current NFPA 1582, as required by DHS Standards.

• Simultaneous requests for Priority 1 and Priority 2 activities will receive a lower funding consideration than requests that complete the bundle of the four (4) Priority 1 Activities.

• Candidate physical ability evaluation.

• Formal fitness and injury prevention program/equipment.

• Injury/illness rehabilitation.

• IAFF or IAFC peer fitness trainer program(s).

(v.) Modifications to Facilities

Only fire departments and nonaffiliated EMS organizations are eligible to apply for Modifications to Facilities grants. FY 2014 AFG funding may be used to modify and retrofit existing fire stations and other facilities or structures built before 2003. Eligible projects under this activity must have a direct effect on the health and safety of firefighters. New fire station construction is not eligible for funding. To be eligible, the modification must not change the structure footprint or profile. If requesting multiple items in this activity, total funding for all project and activities cannot exceed $100,000 per fire station.

FEMA is required to consider the effects of its actions on the environment and/or historic properties to ensure that all activities and programs funded by the agency, including grant-funded projects, comply with federal environmental planning and historic preservation (EHP) regulations, laws, and Executive Orders, as applicable.

The Grants Program Directorate/EHP Branch will no longer be conducting EHP reviews on projects that have already been initiated or completed, and such projects that are received for review will be recommended to not be funded, unless the project can be modified to eliminate those parts/elements that have already been completed/initiated.

FEMA Policy 108.024.4 (linked below) provides procedural guidelines for completing environmental reviews as required by the National Environmental Policy Act (NEPA) in cases where Federal Emergency Management Agency funded projects require initiation or action prior to the completion of the environmental review.

Please see FEMA Environmental Planning and Historical Preservation Policy 108.024.4, dated December 18, 2013, at http://www.fema.gov/media-library-data/1388411752234-6ddb79121951a68e9ba036d2569aa488/18Dec13-NoNEPAReview.pdf. Grantees must comply with all applicable EHP laws, regulations, and Executive Orders (EOs) to draw down their FY 2014 AFG funds.

• Funding Priorities. Highest priority for funding will be requests to install modifications such as sole/at source capture exhaust systems (SSCES), sprinkler systems, or smoke/fire alarm notification systems in stations, including maritime and air operations facilities, that are occupied 24/7 and offer sleeping quarters. An SSCES is a system where exhaust gases from a vehicle are captured via a conduit that attaches to/over the end of the vehicle's exhaust system at the tailpipe. The captured exhaust gases are expelled through the attached conduit via mechanical/pneumatic means to the exterior of the building. Medium priority will be given to requests for air quality systems and/or emergency generators from departments that may or may not offer sleeping quarters. Low priority will be given to requests to modify facilities that are not occupied 24/7 and do not offer sleeping quarters, and for training facilities.

All of the following information is considered during prescoring and panelist review:

• Priorities by Level of Facility Occupancy:

• Full-time (24/7)

• Daily (part-time or selected coverage; not on a regular basis)

• Occasionally (no schedule coverage; volunteers respond to the station.)

Additional Considerations will be given for the age of the building, with older facilities receiving higher priority. If requesting multiple items in this activity, funding cannot exceed a maximum of $100,000 per station.

(2) Joint/Regional Host Organizations. A Regional application is an opportunity for a fire department or a nonaffiliated EMS organization to act as a “host” applicant and apply for large-scale projects on behalf of itself and any number of other participating local AFG-eligible organizations. Eligible Regional Program activities are Vehicle Acquisition and Operations and Safety (but only Training, Equipment, and PPE). Regional Program activities should achieve cost effectiveness, support regional efficiency and resilience, and benefit more than one local jurisdiction (county, parish, town, township, city, or village) directly from the activities implemented with the grant funds.

Host organizations should provide specific details in their application narrative, fully explaining the distribution of any grant-funded acquisitions or grant-funded contracted services between the Host and the partner organizations.

Regional host applicants and participating partner agencies must execute a Memorandum of Understanding (MOU) or equivalent document, signed by all parties participating in the award, prior to submitting an application under the Regional Program activities. The agreement should specify the individual and mutual responsibilities of the participating partners, the participant's level of involvement in the project(s), and the proposed distribution of all grant-funded assets. Successful Regional applicants shall provide a copy of the signed MOU at the time of award. Any entity named in the application as benefiting from the award shall be a party the MOU or equivalent document.

State Fire Training Academies are not eligible to apply under the Regional Program.

(1) Vehicles Acquisition Program

Not more than 25 percent of available grant funds may be used for the purchase of vehicles. Of the 25 percent set aside for vehicle funding, FEMA intends to allocate 10 percent of the total Vehicle funds for ambulances. The allocation of vehicle funding will be distributed as equally as possible among urban, suburban, and rural community applicants. The remaining Vehicle Acquisition funds will be awarded competitively without regard to community classification.

In FY 2014, fire departments, joint/regional hosts, nonaffiliated EMS organizations, and SFTAs may apply for more than one vehicle. Requests cannot exceed the financial cap based on population listed in the application. If a department submits multiple types of applications, and more than one of those requests are approved, the department will be held to the same financial cap based on the population listed in the application.

(i) Compliance With Standards

• New fire apparatus must be compliant with NFPA 1901 or 1906 for the year ordered/manufactured.

• Ambulances, Edition 2013, or GSA Federal Standard KKK-A-1822F.

• Applicants must certify that unsafe vehicles will be permanently removed from service if awarded a grant. Acceptable uses of unsafe vehicles include farm, nursery, scrap metal, salvage, construction, etc.

When requesting more than one vehicle, the applicant will be asked to fill out a separate line item and answer all the questions including a separate Narrative for each vehicle. For example, if requesting to replace three ambulances, the applicant must fill out the age and vehicle identification number (VIN) of each vehicle being replaced. The same VIN cannot be used in each line item.

Applicants may request funding for a driver training program in the Vehicle Acquisition section but must add the request in the Additional Funding area in the Request Details section of the application. Driver training program(s) must be in place prior to the delivery of the vehicle. Applicants requesting vehicles that do not have drivers/operators trained to NFPA 1002 or equivalent, and are not planning to have a training program in place by the time the vehicle is delivered, will not receive a vehicle award.

(ii) Vehicle Funding Priorities

Inherent differences exist between urban, suburban, and rural firefighting conventions. For this reason, DHS has developed different priorities in Vehicle Acquisition for departments that serve different types of communities. The U.S. Census Bureau's urban—rural classifications are fundamentally a delineation of geographical areas. The FY2014 demographics for determining urban, suburban, and rural are shown in the table below.

Factors | Urban | Suburban | Rural
Population Size | >3,000/sq. mi. or 50,000+ population | 1,000-2,999/sq. mi. or 25,000-50,000 population | 0-999/sq. mi. or <25,000 population.
Water Supply | 75-100% hydrants (municipal water) | 50-74% hydrants | <50% hydrant.
Land Use | <25% for agriculture (based on zoning) industrial and commercial combined >50% | 25-49% used for agriculture (based on zoning) industrial and commercial combined >25-49% | 50% used for agriculture (based on zoning) industrial and commercial combined <25%.
Number of Stations per square mile | <3 sq. mi. per station | 3-9 sq. mi. per station | >10 sq. mi. per station.
Number of Occupancies | >100 | 11-100 | 0-10.

• Fire Department, Joint/Regional, and SFTA Priorities. Fire departments, joint/regional applicants, and SFTAs are eligible to request funding for the Vehicle Acquisition activities and funding priorities shown below, but they are not limited to these Vehicle activities. The funding priorities for firefighting vehicles—High (H), Medium (M), or Low (L)—are organized by community type. Within each separate funding priority, the vehicles listed have equal value. The chart below delineates the priorities for firefighting vehicles for each type of community.

• Nonaffiliated EMS Organization Vehicle Priorities. They are eligible for Vehicle Acquisition Activities that are not specific or unique to structural/proximity firefighting.

(iii) Additional Considerations

• Departments that have automatic aid agreements, mutual aid agreements, or both.

• Population and call volume of primary first due response area or region.

• Replacement of open cab/jump seat configurations.

• Age of the vehicle being replaced; older equipment receive higher consideration.

• Age of the newest vehicle in the department's fleet that is like the vehicle to be replaced.

• Disclose vehicles on loan to the organization in the application narrative but not in the organization's inventory.

• Disclose damaged vehicles and out of service vehicles in the organization's inventory.

• Average age of the fleet; older equipment within the same class.

• Converted vehicles not designed or intended for use in the fire service.

(4) Administrative Costs

Panelists will assess the administrative costs requested in each application and determine whether the request is reasonable and in the best interest of the Program.

Dated: October 24, 2014.
W. Craig Fugate,
Administrator, Federal Emergency Management Agency.

[FR Doc. 2014-26293 Filed 11-4-14; 8:45 am]

BILLING CODE 9111-78-P